DEPARTMENT OF THE INTERIOR

Fish and Wildlife Service

[FWS-R9-IA-2010-N005]

[96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species. The Endangered Species Act requires that we invite public comment on these permit applications.

DATES: Written data, comments or requests must be received by February 16, 2010.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703-358-2281.

FOR FURTHER INFORMATION CONTACT: Division of Management Authority, telephone 703-358-2104.

SUPPLEMENTARY INFORMATION:

Endangered Species

The public is invited to comment on the following applications for a permit to conduct certain activities with endangered species. This notice is provided pursuant to Section 10(c) of the Endangered Species Act of 1973, as amended (16 U.S.C. 1531 et seq.). Submit your written data, comments, or requests for copies of the complete applications to the address shown in ADDRESSES.

Applicant: Brigham and Woman's Hospital, Boston, MA, PRT-232608

The applicant requests a permit to acquire from Coriell Institute, Camden, NJ, in interstate commerce DNA and cell line samples from various threatened and endangered Primate species for the purpose of scientific research. This notification covers activities to be conducted by the applicant over a 5-year period.

Applicant: The San Diego Zoological Society, San Diego, CA, PRT-236991

The applicant requests a permit to export three male and four female captive-born L'hoest's guenon (Cercopithecus lhoesti) to the Royal Zoological Society of Scotland, Edinburgh, UK for the purpose of the enhancement of the survival of the species.

Applicant: Virginia Zoological Park, Norfolk, VA, PRT-237536

The applicant requests a permit to import two captive-born male Siamang (Symphalangus syndactylus) from the Port Lympne Wild Animal Park, Lympne, Hythe, Kent, UK for the purpose of enhancement of the survival of the species.

Applicant: George Carden Circus Intl., Inc., Springfield, MO, PRT-080831

The applicant requests the re-issuance of permits to re-export and re-import two female Asian elephants (Elephas maximus) that were born in the wild to worldwide locations for the purpose of enhancement of the species through conservation education. The permit numbers and animals are: 080731, Jazz; 716917, Betty. This notification covers activities to be conducted by the applicant over a three-year period and the import of any potential progeny born while overseas.

Dated: January 8, 2010.
Brenda Tapia,
Senior Permit Biologist, Branch of Permits, Division of Management Authority.

[FR Doc. 2010-720 Filed 1-14- 10; 8:45 am]

BILLING CODE 4310-55-S